DEPARTMENT OF COMMERCE

National Oceanic and Atmospheric Administration

[I.D. 082901D]

Pacific Fishery Management Council; Public Meeting

AGENCY: National Marine Fisheries Service (NMFS), National Oceanic and Atmospheric Administration (NOAA), Commerce.

ACTION: Notice of public meeting.

SUMMARY: The Pacific Fishery Management Council’s (Council) Scientific and Statistical Committee’s Ad Hoc Marine Reserves Subcommittee will hold a public meeting.

DATES: The subcommittee will meet Monday, October 1, 2001, from 10 a.m. to 5 p.m., and Tuesday, October 2, 2001, from 8:30 a.m. until business for the day is completed.

ADDRESSES: The meeting will be held in Santa Barbara, CA. Contact the Council office for meeting location information, 503-326-6352.

Council address: Pacific Fishery Management Council, 7700 NE Ambassador Place, Suite 200, Portland, OR 97220-1384.

FOR FURTHER INFORMATION CONTACT: Mr. Jim Seger or Mr. Dan Waldeck, Pacific Fishery Management Council, 503-326-6352.

SUPPLEMENTARY INFORMATION: The primary purpose of the work session will be to evaluate the scientific basis for determining reserve size. As time permits, other scientific issues relative to marine reserves may also be discussed.

Although nonemergency issues not contained in the meeting agenda may come before the subcommittee for discussion, those issues may not be the subject of formal subcommittee action during this meeting. Subcommittee action will be restricted to those issues specifically listed in this notice and any issues arising after publication of this notice that require emergency action under section 305(c) of the Magnuson-Stevens Fishery Conservation and Management Act, provided the public has been notified of the subcommittee's intent to take final action to address the emergency.

Special Accommodations

This meeting is physically accessible to people with disabilities. Requests for sign language interpretation or other auxiliary aids should be directed to Ms. Carolyn Porter at 503-326-6352 at least 5 days prior to the meeting date.

Dated: September 5, 2001.
Richard W. Surdi,
Acting Director, Office of Sustainable Fisheries, National Marine Fisheries Service.

[FR Doc. 01-22808 Filed 9-11-01; 8:45 am]

BILLING CODE 3510-22-S